FEDERAL MARITIME COMMISSION

Sunshine Act Meeting

TIME AND DATE: December 8, 2010-10 a.m.

PLACE: 800 North Capitol Street, NW., First Floor Hearing Room, Washington, DC.

STATUS: Part of the meeting will be in Open Session and the remainder of the meeting will be in Closed Session.

MATTERS TO BE CONSIDERED:

Open Session

1. Staff Update on Cruise West.

2. Initiative to Modernize Commission Rules of Practice and Procedure.

Closed Session

1. Fact Finding No. 27: Complaints or Inquiries from Individual Shippers of Household Goods or Private Automobiles—Discussion of the Fact Finding Officer's Interim Report.

2. Fact Finding Investigation No. 26: Vessel Capacity and Equipment Availability in the United States Export and Import Liner Trades—Discussion of the Fact Finding Officer's Final Report.

3. Petition No. P1-01: Petition of Hainan P O Shipping Co., Ltd., for an Exemption from the First Sentence of Section 9(c) of the Shipping Act.

4. Staff Briefing and Discussion Regarding Passenger Vessel Financial Responsibility.

CONTACT PERSON FOR MORE INFORMATION: Karen V. Gregory, Secretary, (202) 523-5725.

[FR Doc. 2010-30438 Filed 12-1-10; 11:15 am]

BILLING CODE 6730-01-P